COMMISSION ON CIVIL RIGHTS

Sunshine Act Meeting Notice

AGENCY: United States Commission on Civil Rights.

ACTION: Briefing notice.

DATES: Date and Time: Monday, April 20, 2015; 9:00 a.m.-5:45 p.m. EST.

ADDRESSES: Place: John Jay College of Criminal Justice, 524 West 59th Street, New York, NY 10019.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION: This briefing is open to the public.

Topic: Police Practices and Use of Force

I. Introductory Remarks

II. Panel I. 9:10 a.m.-10:40 a.m.: Community Leaders, Civilian Review Boards, and Police Organizations

Speakers' Remarks and Questions from Commissioners

III. Panel II. Law 10:40 a.m.-12:10 p.m.: Enforcement Officials and Experts on Police Accountability and Use of Force

Speakers' Remarks and Questions from Commissioners

IV. LUNCH—12:10 p.m.-1:10 p.m.

V. Panel III. 1:15 p.m.-2:45 p.m.: Court Officials and Experts on Procedural Justice and Legal Reforms

Speakers' Remarks and Questions from Commissioners

VI. Panel IV. 2:45 p.m.-4:15 p.m.: Federal Agencies and Federally-funded Initiatives

Speakers' Remarks and Questions from Commissioners

VII. Panel V. 4:15 p.m.-5:45 p.m.: Researchers and Data Collection Experts

Speakers' Remarks and Questions from Commissioners

VIII. Adjourn Briefing—5:45 p.m.

Dated: March 25, 2015.
David Mussatt,
Chief, Regional Programs Unit.

[FR Doc. 2015-07171 Filed 3-25-15; 4:30 pm]

BILLING CODE 6335-01-P